DEPARTMENT OF COMMERCE

International Trade Administration

[C-533-844]

Certain Lined Paper Products From India: Amended Final Results of Countervailing Duty Administrative Review, 2014

AGENCY: Enforcement and Compliance, International Trade Administration, Commerce.

SUMMARY: The Department of Commerce (the Department) is amending the final results of the countervailing duty administrative review of certain lined paper products from India to correct ministerial errors. The period of review (POR) is January 1, 2014, through December 31, 2014.

DATES: Effective June 20, 2017.

FOR FURTHER INFORMATION CONTACT: John Conniff; AD/CVD Operations, Enforcement and Compliance, International Trade Administration, U.S. Department of Commerce, 1401 Constitution Avenue NW., Washington, DC 20230; telephone: 202-482-1009.

SUPPLEMENTARY INFORMATION:

Background

In accordance with sections 751(a)(1) of the Tariff Act of 1930, as amended (the Act), and 19 CFR 351.221(b)(5), on April 17, 2017, the Department published its final results in the countervailing duty administrative review of certain lined paper products from India.¹ On that same day, the Association of American School Paper Suppliers (the petitioner) timely alleged that the Department made ministerial errors in the Final Results.² On April 28, 2017, Goldenpalm Manufacturers PVT Limited (Goldenplam), the respondent in this review, submitted rebuttal comments.³

¹ See Certain Lined Paper from India: Final Results of Countervailing Duty Administrative Review; 2014, 82 FR 18112 (April 17, 2017) (Final Resutls) and accompanying Issues and Decision Memorandum (IDM).

² See Letter from Petitioner, “Certain Lined Paper Products from India: Petitioner's Comments on Ministerial Errors in the Final Results,” dated April 17, 2017.

³ See Letter from Goldenpalm, “Certain Lined Paper Products from India, C-533-844; Response to Ministerial Error Comments,” dated April 28, 2017.

Period of Review

The POR covered by this review is January 1, 2014, through December 31, 2014.

Scope of the Order

The merchandise subject to the order is certain lined paper products. The products are currently classifiable under the Harmonized Tariff Schedule of the United States (HTSUS) item numbers: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description remains dispositive. A full description of the scope of the order is contained in the Final Results IDM.⁴

⁴ See Final Results IDM at 3-5.

Ministerial Errors

Section 751(h) of the Act, and 19 CFR 351.224(f) define a “ministerial error” as an error “in addition, subtraction, or other arithmetic function, clerical error resulting from inaccurate copying, duplication, or the like, and any similar type of unintentional error which the Secretary considers ministerial.” The Department finds that the purported errors alleged by the petitioner constitute ministerial errors within the meaning of 19 CFR 351.224(f).⁵ Specifically, we committed certain ministerial errors with regard to the “0.5 Percent Test,” as described under 19 CFR 351.524(b)(2), and the benefit calculation performed in connection with import duty exemptions that Goldenpalm received under the Export Promotion of Capital Goods Scheme. For a complete discussion of these alleged errors, see the Response to Ministerial Error Allegations.

⁵ See Memorandum, “Response to Ministerial Error Allegations in the Final Results” (Response to Ministerial Error Allegations) dated concurrently with this notice.

In accordance with section 751(h) of the Act and 19 CFR 351.224(e), we are amending the Final Results.⁶ Specifically, we are amending the net subsidy rate for Goldenpalm. The revised net subsidy rate is provided below.

⁶ See Final Results, 82 FR at 18113.

Amended Final Results

As a result of correcting the ministerial errors, we determine that Goldenpalm's total net countervailable subsidy rate for the period January 1, 2014, through December 31 2014, is as follows:

Producer/exporter from India | Net countervailable subsidy rate (percent)
Goldenpalm Manufacturers PVT Limited | 8.30 percent ad valorem.

Assessment Rates/Cash Deposits

The Department intends to issue appropriate assessment instructions to U.S. Customs and Border Protection (CBP) 15 days after the date of publication of these amended final results of review, to liquidate shipments of subject merchandise produced and/or exported by the respondent listed above entered, or withdrawn form warehouse, for consumption on or after January 1, 2014, through December 31, 2014.

The Department also intends to instruct CBP to collect cash deposits of estimated countervailing duties, in the amount shown above for the company listed above on shipments of subject merchandise entered, or withdrawn from warehouse, for consumption on or after April 17, 2017, the date of publication of the Final Results. For all non-reviewed firms, we will instruct CBP to continue to collect cash deposits at the most-recent company-specific or all-others rate applicable to the company, as appropriate. These cash deposit requirements, when imposed, shall remain in effect until further notice.

Disclosure

We will disclose the calculations performed for these amended final results to interested parties within five business days of the date of the publication of this notice in accordance with 19 CFR 351.224(b).

We are issuing and publishing these results in accordance with sections 751(h) and 777(i)(1) of the Act, and 19 CFR 351.224(e).

Dated: June 13, 2017.
Ronald K. Lorentzen,
Acting Assistant Secretary for Enforcement and Compliance.

[FR Doc. 2017-12818 Filed 6-19-17; 8:45 am]

BILLING CODE 3510-DS-P